CONSUMER PRODUCT SAFETY COMMISSION

Petition Requesting Amendment to Ban on Infant Pillows (Petition HP 05-1)

AGENCY: Consumer Product Safety Commission.

ACTION: Notice.

SUMMARY: The United States Consumer Product Safety Commission (Commission or CPSC) has received a petition (HP 05-1) requesting that the Commission amend the ban on infant pillows to permit the use of such pillows if they are designed, intended and promoted for nursing, and when such pillows are requested by a pediatrician or board certified lactation consultant. The Commission solicits written comments concerning the petition.

DATES: The Office of the Secretary must receive comments on the petition by December 12, 2005.

ADDRESSES: Comments on the petition may be filed by e-mail to cpsc-os@cpsc.gov. Comments may also be filed by facsimile to (301) 504-0127 or by mail, preferably in five copies, to the Office of the Secretary, Consumer Product Safety Commission, Washington, DC 20207, telephone (301) 504-0800, or delivered to the Office of the Secretary, Room 502, 4330 East-West Highway, Bethesda, Maryland 20814. Comments should be captioned “Petition HP 05-1, Petition Requesting Amendment to Ban on Infant Pillows.” A copy of the petition is available for inspection at the Commission's Office of the Secretary, Room 502, 4330 East-West Highway, Bethesda, Maryland. The petition is also available on the CPSC web site at www.cpsc.gov.

FOR FURTHER INFORMATION CONTACT: Rochelle Hammond, Office of the Secretary, Consumer Product Safety Commission, Washington, DC 20207; telephone (301) 504-6833, e-mail rhammond@cpsc.gov.

SUPPLEMENTARY INFORMATION: The Commission has received correspondence from Boston Billows, Inc. requesting that the Commission amend 16 C.F.R. 1500.18(a)(16)(i), to permit the use of banned infant pillows, such as the Boston Billow Nursing Pillow (Boston Pillow), when the pillow is designed, intended and promoted for a mother's use during breastfeeding and when such pillows are requested by a pediatrician or a board certified lactation consultant.

Boston Billows asserts such an amendment is necessary given the current use of the Boston Pillow in hospitals and by lactation consultants. In addition, Boston Billows states that due to the physical configuration of the Boston Pillow, it is unlikely that an infant could fall asleep on it in a position that would compromise the infant's ability to breathe.

The request for an amendment to the ban on infant pillows is docketed as petition number HP 05-1 under the Federal Hazardous Substances Act, 15 U.S.C. 1261-1278.

Interested parties may obtain a copy of the petition by writing or calling the Office of the Secretary, Consumer Product Safety Commission, Washington, DC 20207; telephone (301) 504-0800. The petition is available on the CPSC Web site at www.cpsc.gov.

Dated: October 7, 2005.
Todd A. Stevenson,
Secretary, Consumer Product Safety Commission.

[FR Doc. 05-20524 Filed 10-12-05; 8:45 am]

BILLING CODE 6355-01-P